DEPARTMENT OF HOMELAND SECURITY

Coast Guard

[Docket No. USCG-2015-0042]

Navigation Safety Advisory Council

AGENCY: Coast Guard, DHS.

ACTION: Notice of Federal Advisory Committee Meeting.

SUMMARY: The Navigation Safety Advisory Council will meet in Arlington, Virginia to discuss matters relating to maritime collisions, rammings, and groundings, Inland Rules of the Road, International Rules of the Road, navigation regulations and equipment, routing measures, marine information, diving safety, and aids to navigation systems. These meetings will be open to the public.

DATES: The Navigation Safety Advisory Council will meet on Wednesday, September 9, 2015, from 8 a.m. to 5:30 p.m., and on Thursday, September 10, 2015, from 8 a.m. to 5:30 p.m. Please note these meetings may close early if the Council has completed its business.

ADDRESSES: The meeting will be held at the Holiday Inn Arlington at Ballston, 4610 Fairfax Drive, Arlington VA 22203. https://www.holidayinn.com/hotels/us/en/arlington/wasfx/hoteldetail/directions.

For information on facilities or services for individuals with disabilities or to request special assistance at the meeting, contact Mr. Burt Lahn listed in the FOR FURTHER INFORMATION CONTACT section below as soon as possible.

To facilitate public participation, we are inviting public comment on the issues to be considered by the Council as listed in the “Agenda” section below. Any written material submitted by the public will be distributed to the Council and become part of the public record. Written comments must be submitted no later than September 2, 2015 if you want Council members to be able to review your comments before the meeting. Comments must be identified by the docket number, USCG-2015-0042 and submitted using one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal holidays. The telephone number is 202-366-9329.

Instructions: All submissions received must include the words “Department of Homeland Security” and the docket number for this action, USCG 2015-0042. Comments received will be posted without alteration at http://www.regulations.gov, including any personal information provided. You may review a Privacy Act notice regarding our public dockets in the January 17, 2008, issue of the Federal Register (73 FR 3316).

Docket: For access to the docket to read documents or comments related to this notice, go to http://www.regulations.gov insert USCG-2015-0042 in the Search box, press Enter, and then click on the item you wish to view.

A public comment period will be held during the meeting on September 9, 2015, from 5 p.m. to 5:30 p.m. and on September 10, 2015, prior to the close of the meeting. Public presentations may also be given. Speakers are requested to limit their presentation and comments to 10 minutes. Please note that the public comment period may end before the time indicated, following the last call for comments. To register as a speaker, contact Mr. Burt Lahn listed in the FOR FURTHER INFORMATION CONTACT section below.

FOR FURTHER INFORMATION CONTACT: If you have questions about these meetings, please contact Mr. George Detweiler, the Navigation Safety Advisory Council Alternate Designated Federal Officer, Commandant (CG-NAV-2), U.S. Coast Guard, 2703 Martin Luther King Jr. Avenue SE., Stop 7418, Washington, DC 20593, telephone 202-372-1566 or email George.H.Detweiler@uscg.mil or Mr. Burt Lahn, Navigation Safety Advisory Council meeting coordinator, at telephone 202-372-1526 or email burt.a.lahn@uscg.mil. If you have questions on viewing or submitting material to the docket, call Cheryl Collins, Program Manager, and Docket Operations, telephone 202-366-9826 or 1-800-647-5527.

SUPPLEMENTARY INFORMATION: Notice of this meeting is given under the Federal Advisory Committee Act, Title 5 United States Code, Appendix.

The Navigation Safety Advisory Council is an advisory committee authorized in 33 United States Code 2073 and chartered under the provisions of the Federal Advisory Committee Act. The Navigation Safety Advisory Council provides advice and recommendations to the Secretary, through the Commandant of the U.S. Coast Guard, on matters relating to prevention of maritime collisions, rammings, and groundings, Inland and International Rules of the Road, navigation regulations and equipment, routing measures, marine information, diving safety, and aids to navigation systems.

A copy of all meeting documentation will be available at https://homeport.uscg.mil/mycg/portal/ep/channelView.do?channelId=-18422&channelPage=%2Fep%2Fchannel%2Fdefault.jsp&pageTypeId=13489&BV_SessionID=@@@@1079277902.1438955092@@@@&BV_EngineID=ccceadgglkmjhddcfngcfkmdfhfdfgl.0 by September 2, 2015. Alternatively, you may contact Mr. Burt Lahn as noted in the FOR FURTHER INFORMATION CONTACT section above.

Agenda

The Navigation Safety Advisory Council will meet to review, discuss and formulate recommendations on the following topics.

Wednesday, September 9, 2015

(1) Electronic Chart Systems. The Coast Guard has received periodic inquiries from the U.S. marine industry about the use of electronic charts on non-SOLAS commercial vessels. Navigation Safety Advisory Council will be asked to provide views on the use of electronic charts and associated equipment on domestic commercial vessels;

(2) Atlantic Coast Port Access Route Study. The Atlantic Coast Port Access Route Study was initiated to study the navigational users and industrial development off the Atlantic Coast. The Coast Guard will provide an update on the results of this ongoing effort including Marine Planning Guidelines developed in conjunction with the Atlantic Coast Port Access Route Study;

(3) The Coast Guard's Future of Navigation initiative leverages technology in order to optimize the mix of electronic and visual aids to navigation. The Coast Guard will provide information on this project. This will include a presentation on the Seacoast Waterways Analysis and Management Study; and

(4) Vessel Traffic Services. The Coast Guard will provide an update of the Vessel Traffic Service program and information concerning the National Transportation Safety Board Vessel Traffic Services Safety Study.

Following the above presentations, the Designated Federal Officer will form a subcommittee to continue discussions on the task statement: Navigation Safety Advisory Council Task 15-01—Unmanned Maritime Systems Best Practices.

The Designated Federal Officer will form subcommittees to discuss and provide recommendations on the following new task statements as appropriate:

(1) Navigation Safety Advisory Council Task 15-03—Marine Planning Guidelines. The Council will be asked to review the Marine Planning Guidelines and provide comments and recommendations; and

(2) Navigation Safety Advisory Council Task 15-04—Discontinuance of an Aid to Navigation. The Coast Guard will review its existing discontinuance of an aid to navigation process and present its new draft process for review and comment by the Council.

(3) Navigation Safety Advisory Council Task 15-05—Electronic Chart Systems. The Council will be asked to review the Electronic Chart Systems carriage requirements and a draft Coast Guard policy concerning their use of ECS in lieu of paper charts.

Public comments or questions will be taken during the meeting as the Council discusses each issue and prior to the Council formulating recommendations on each issue. There will also be a public comment period at the end of the meeting.

Thursday, September 10, 2015

(1) Subcommittee discussions continued from Wednesday, September 9, 2015;

(2) Subcommittee reports presented to the Council;

(3) New Business;

a. Summary of Navigation Safety Advisory Council action items.

b. Schedule next meeting date—Spring, 2016.

c. Council discussions and acceptance of new tasks.

A public comment period will be held after the discussion of new tasks. Speakers' comments are limited to 10 minutes each. Public comments or questions will be taken at the discretion of the Designated Federal Officer during the discussion and recommendations, and new business portion of the meeting.

Dated: August 20, 2015.
G.C. Rasicot,
Director, Marine Transportation Systems, U.S. Coast Guard.

[FR Doc. 2015-21013 Filed 8-24-15; 8:45 am]

BILLING CODE 9110-04-P